DEPARTMENT OF THE INTERIOR

Bureau of Land Management

[AZ-933-06, 5410-KD-A502; AZA-32613]

Application for Conveyance of Federal Mineral Interests, Pima County, AZ

AGENCY: Bureau of Land Management, Interior.

ACTION: Notice of application.

SUMMARY: The surface owner of the lands described in this notice, aggregating approximately 5,290.90 acres, has filed an application for the purchase of the Federally owned mineral interests in the lands. Publication of this notice temporarily segregates the mineral interest from appropriation under the public land laws, including the mining law.

DATES: Interested persons may submit written comments to the Bureau of Land Management (BLM) at the address stated below. Comments must be received by no later than August 3, 2006.

ADDRESSES: Bureau of Land Management, Arizona State Office, One North Central Avenue, Phoenix, Arizona 85004. Detailed information concerning this action, including appropriate environmental information, is available for review at the above address.

FOR FURTHER INFORMATION CONTACT: Vivian Titus, Land Law Examiner, at the above address or at (602) 417-9598.

SUPPLEMENTARY INFORMATION: The surface owner of the following described lands has filed an application pursuant to section 209 of the Federal Land Policy and Management Act of 1976, 43 U.S.C. 1719(b), for the purchase and conveyance of the Federally owned mineral interest in the following described lands:

Gila and Salt River Base and Meridian, Pima County, Arizona

T. 17 S., R. 12 E.

Sec. 25, All that portion of Lot 3 of Sec. 25, lying Southeasterly of the Southeasterly Right-of-Way line of Mission-Twin Buttes Road as shown in Book 12 of Road Maps at Page 31, Pima County Records. (9.71 Acres (Ac.) more or less)

Sec. 36, Lots 2, 4, and 5, the North Half of the South Half of Sec. 36; EXCEPT that portion lying within the West 1800 feet of Sec. 36. (155.80 Ac. more or less) T. 17 S., R. 13 E.

Sec. 20, All that portion of the Southeast Quarter of Sec. 20 lying Southerly of the Southerly Right-of-Way line of Twin-Buttes Road as it existed on March 12, 1986; and Block 2, Pimeria Alta Estates, according to Book 38 of Maps, at Page 9, Records of Pima County, Arizona. (87.97 Ac. more or less)

Sec. 21, The South Half of the Southwest Quarter and the South Half of the Southeast Quarter of Sec. 21. (160 Ac. more or less)

Sec. 22, The South Half of the Southwest Quarter of Sec. 22; EXCEPT the East 75 feet thereof. (77.72 Ac. more or less)

Sec. 28, All of Sec. 28. (640 Ac. more or less)

Sec. 29, All of Sec. 29; EXCEPT any of said Sec. 29, lying Northwesterly of the Southeasterly Right-of-Way of the Mission-Twin Buttes Road as it existed on March 12, 1986. (639.89 Ac. more or less)

Sec. 30, All that portion of Lots 1, 2, 5, 6, 7 and 10, the Northeast Quarter and the East Half of the Northwest Quarter of Sec. 30, lying Southerly of the Southerly Right-of-Way line of Twin Buttes Road as it existed on March 12, 1986, and Easterly and Southerly of Mission-Twin Buttes Road as shown in Book 12 of Road Maps, at Page 31, Pima County Records, including that portion of Mission-Twin Buttes Road No. 5, lying within said Sec. 30, as abandoned by proceedings No. 1568, and shown in Book 12 of Road Maps, at Page 32; EXCEPT any portion lying within patented Mineral Survey No. 2640. (229.74 Ac. more or less)

Sec. 31, All of Sec. 31, including that portion of Mission-Twin Buttes Road No. 5, lying within said Sec. 31, as abandoned by proceedings No. 1568, and shown in Book 12 of Road Maps, at Page 32 and that portion of Twin Buttes-McGee Road No. 85-A, lying within Sec. 31, as abandoned by proceedings No. 1569, and shown in Book 12 of Road Maps, at Page 33, Pima County Records; EXCEPT any portion lying within patented Mineral Survey Nos. 2640, 2642, 2643, 3754, 4491, and the patented portion of Mineral Survey No. 4627. (392.60 Ac. more or less)

Sec. 32, All of Sec. 32; EXCEPT any portion lying within patented Mineral Survey No. 3754 and the patented portion of Mineral Survey No. 4627. (445.55 Ac. more or less)

Sec. 33, All of Sec. 33; EXCEPT any portion lying within the patented portion of Mineral Survey No. 4627. (630.01 Ac. more or less)

T. 18 S., R. 12 E.

Sec. 1, Lots 3, 4, 5 and 6, the South Half of the Northeast Quarter, and all that portion of the South Half of the Northwest Quarter and the Southeast Quarter of Sec. 1, lying Northeasterly of the Northeasterly Right-of-Way line of Mission-Twin Buttes Road as shown in Book 12 of Road Maps, at Page 31, Pima County Records; EXCEPT any portion lying within patented Mineral Survey Nos. 2643, 4490, 4492, and the patented portion of Mineral Survey No. 4627. (405.52 Ac. more or less)

T. 18 S., R. 13 E.

Sec. 3, Lot 4, and that portion of the Southwest Quarter of the Northwest Quarter and the Northwest Quarter of the Southwest Quarter of Sec. 3, lying Northwesterly of the Northwesterly Right-of-Way line of Duval Mine Road as shown in Book 8 of Road Maps, at Page 16, Pima County Records; EXCEPT any portion lying within the property described in Deed to Southern Pacific Transportation Company, a corporation, recorded in Docket 4045, at Page 603, Pima County Records. (85.68 Ac. more or less)

Sec. 4, Lots 1, 2, 3 and 4, the South Half of the North Half and the South Half of Sec. 4, lying Northwesterly of the Northwesterly Right-of-Way line of Duval Mine Road as shown in Book 8 of Road Maps, at Page 16, Pima County Records; EXCEPT any portion lying within the patented portion of Mineral Survey No. 4627; and EXCEPT any portion lying within the property described in Deed to Southern Pacific Transportation Company, a corporation, recorded in Docket 4045, at Page 603, Pima County Records. (404.19 Ac. more or less)

Sec. 5, All that portion of the Southwest Quarter of the Southwest Quarter and the Southeast Quarter of the Southeast Quarter of Sec. 5; EXCEPT any portion lying within the patented portion of Mineral Survey No. 4627. (9.04 Ac. more or less)

Sec. 6, All of Sec. 6; EXCEPT any portion lying within patented Mineral Survey Nos. 2643, 4489, 4491, 4492, 4494, and the patented portion of Mineral Survey No. 4627. (357.86 Ac. more or less)

Sec. 7, All that portion of Sec. 7, including that portion of Mission-Twin Buttes Road No. 5, lying within said Sec. 7, as abandoned by proceedings No. 1568, and shown in Book 12 of Road Maps, at Page 32, lying Northwesterly of the Northwesterly Right-of-Way line of Duval Mine Road as shown in Book 8 of Road Maps, at Page 16, and Northeasterly of the Northeasterly Right-of-Way line of Mission-Twin Buttes Road as shown in Book 1 of Road Maps, at Page 22, Pima County Records. (559.62 Ac. more or less)

Total Acres 5,290.90 more or less.

Effective immediately, the BLM will process the pending application in accordance with the regulations stated in 43 CFR Part 2720. Written comments concerning the application must be received by no later than the date specified above in this notice for that purpose. The purpose for a purchase and conveyance is to allow consolidation of surface and subsurface minerals ownership where (1) there are no known mineral values or (2) in those instances where the Federal mineral interest reservation interferes with or precludes appropriate nonmineral development and such development is a more beneficial use of the land than the mineral development.

On June 19, 2006 the mineral interests owned by the United States in the above described lands will be segregated to the extent that they will not be subject to appropriation under the public land laws, including the mining laws. The segregative effect shall terminate upon issuance of a patent or deed of such mineral interest; upon final rejection of the mineral conveyance application; or June 19, 2008, whichever occurs first.

(Authority: 43 CFR 2720.1-1(b))

Dated: May 3, 2006.
Teresa A. Raml,
Acting Associate State Director.

[FR Doc. E6-9533 Filed 6-16-06; 8:45 am]

BILLING CODE 4310-32-P